DEPARTMENT OF HEALTH AND HUMAN SERVICES

Administration for Community Living

Agency Information Collection Activities; Proposed Collection; Comment Request; Semi-Annual and Final Reporting Requirements for Discretionary Grant Programs

AGENCY: Administration for Community Living, HHS.

ACTION: Notice.

SUMMARY: The Administration for Community Living (ACL) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to the continuation of an existing collection for Performance Progress Reports previously approved for discretionary grants funded by the U.S. Administration for Community Living (ACL).

DATES: Submit written or electronic comments on the collection of information by January 11, 2016.

ADDRESSES: Submit electronic comments on the collection of information to: lori.stalbaum@acl.hhs.gov. Submit written comments on the collection of information to Lori Stalbaum, Administration on Community Living, Washington, DC 20201 or by fax to Lori Stalbaum at 202-357-3469.

FOR FURTHER INFORMATION CONTACT: Lori Stalbaum at 202-357-3452 or lori.stalbaum@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing notice of the proposed collection of information set forth in this document. With respect to the following collection of information, ACL invites comments on: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques when appropriate, and other forms of information technology.

The Administration for Community Living (ACL) plans to continue an existing approved collection of information for semi-annual and final reports pursuant to the requirements of its discretionary grant programs. Through its discretionary grant programs, ACL supports projects for the purpose of developing and testing new knowledge and program innovations with the potential for contributing to the independence, well-being, and health of older adults, people with disabilities across the lifespan, and their families and caregivers. Deliverables required by ACL of all grantees are semi-annual and final reports, as provided for in the Department of Health and Human Services regulations, 45 CFR part 74, Section 74.51. These grantee performance reporting requirements can be found on AoA's Web site at http://www.acl.gov/Funding_Opportunities/Grantee_Info/Reporting.aspx. ACL estimates the burden of this collection of information as follows: Frequency: Semi-annually with the Final report taking the place of the semi-annual report at the end of the final year of the grant. Respondents: States, public agencies, private nonprofit agencies, institutions of higher education, and organizations including tribal organizations. Estimated Number of Responses: 600. Total Estimated Burden Hours: 12,000.

Dated: November 5, 2015.
Kathy Greenlee,
Administrator and Assistant Secretary for Aging.

[FR Doc. 2015-28744 Filed 11-10-15; 8:45 am]

BILLING CODE 4154-01-P